DEPARTMENT OF TRANSPORTATION

Federal Highway Administration

Environmental Impact Statement: Dallas County, Texas

AGENCY: Texas Department of Transportation (TxDOT), Federal Highway Administration (FHWA), Department of Transportation.

ACTION: Federal notice of intent to prepare an Environmental Impact Statement (EIS).

SUMMARY: FHWA, on behalf of TxDOT, is issuing this notice to advise the public that an EIS will be prepared for a proposed transportation project to construct State Highway (SH) 190, from Interstate Highway (IH) 30 to IH 20, within southeast Dallas County.

FOR FURTHER INFORMATION CONTACT: Travis Owens, P.E., Transportation Engineer, 4777 E. Highway 80, Mesquite, Texas 75150; telephone: (214) 320-6625; email: travis.owens@txdot.gov. TxDOT's normal business hours are 8:00 a.m.—5:00 p.m., Monday through Friday.

SUPPLEMENTARY INFORMATION: The environmental review, consultation, and other actions required by applicable Federal environmental laws for this project are being, or have been, carried-out by TxDOT pursuant to 23 U.S.C. 327 and a Memorandum of Understanding dated December 16, 2014, and executed by FHWA and TxDOT. TxDOT will prepare an EIS for the proposed SH 190, from IH 30 at the President George Bush Turnpike interchange south to IH 20 within southeast Dallas County. The proposed SH 190 project is listed in the Metropolitan Transportation Plan of the North Central Texas Council of Governments (NCTCOG), Mobility 2040, as a new location six-lane tolled facility.

Previously, a Notice of Intent to prepare an EIS was published on July 1, 2005, in the Federal Register and the Texas Register and notification letters were sent to Federal, State and Tribal agencies to inform them of the study and to request information. From 2005-2014, TxDOT conducted planning studies that developed and evaluated several tolled project alternatives along the 11-mile corridor. This effort has included the involvement of the public, local municipalities, and resource agencies, the sharing of information through stakeholder and agency meetings, the creation of a project Web site (www.theeastbranch.org), and conducting four public meetings. The new NOI signifies that TxDOT will restart the work preparing the EIS. The EIS may use and rely on the planning studies already prepared.

The project is needed to address north/south system linkage between IH 30 and IH 20 in southeast Dallas County. Currently, the only major transportation facility within a reasonable distance connecting these two interstates is IH 635, which is inadequate to meet future traffic volumes, resulting in congestion and reduced north/south mobility. In addition, regional population growth continues to increase demand for additional capacity and access in this corridor and the region. The purpose of the project is to provide a facility that would reduce congestion and improve mobility between IH 30 and IH 20 in southeast Dallas County, while contributing to improved system linkage.

The EIS will develop and evaluate a range of Build Alternatives and a No-Build Alternative within the study corridor, generally bounded to the east by the Dallas/Kaufman County Line, and to the west by Bobtown Road in Garland, Collins Road and Clay Road in Sunnyvale, and Clay-Mathis Road and Lawson Road in Mesquite. The EIS will include an analysis of tolled lanes. The EIS will analyze potential impacts from construction and operation of the proposed roadway including, but not limited to, the following: Transportation impacts, air quality and noise impacts; water quality impacts including storm water runoff; impacts to waters of the United States, including wetlands; impacts to floodplains; impacts to historic and archeological resources; socioeconomic impacts, including Environmental Justice and Limited English Proficiency populations; impacts to land use, vegetation, and wildlife, including threatened and endangered species; impacts to or potential displacement of residents and businesses; and impacts to aesthetic and visual resources.

TxDOT will issue a single Final Environmental Impact Statement and Record of Decision document pursuant to Public Law 112-141, 126 Stat. 405, Section 1319(b) unless TxDOT determines statutory criteria or practicability considerations preclude issuance of the combined document pursuant to section 1319.

Anticipated state and federal permits, pending selection of alternatives and field surveys, may include, but are not limited to, the following: United States Army Corps of Engineers (USACE) Section 404 permit; Texas Commission on Environmental Quality (TCEQ) Section 401 Water Quality Certification; TCEQ Texas Pollutant Discharge Elimination System (TPDES) permit.

Public involvement is a critical component of the project development process and will continue throughout the development of the EIS. A draft Project Coordination Plan has been developed in accordance with 23 U.S.C. 139, Efficient Environmental Reviews for Project Decision Making, to identify and document opportunities for project involvement by the public and other agencies. The Project Coordination Plan will promote involvement from stakeholders, agencies, and the public as well as describe the proposed project, the roles of the agencies and the public, the project purpose and need, schedule, level of detail for alternatives analysis, and the proposed process for coordination and communication. The Project Coordination Plan will be available for public review, input, and comments at the public meetings, including scoping meetings, and hearing held in accordance with the National Environmental Policy Act (NEPA), and upon request at the TxDOT Dallas District Office.

In accordance with 23 U.S.C. 139, cooperating agencies, participating agencies, and the public will be given an opportunity for continued input on project development. Agency meetings are ongoing and a public scoping meeting is planned for late spring of 2017. The purpose of the public scoping meeting is to present the project studies completed to date and identify significant and other relevant issues related to the proposed SH 190 corridor as part of the NEPA process. The scoping meeting will provide an opportunity for participating agencies, cooperating agencies, and the public to review and comment on the draft Project Coordination Plan, the project purpose and need, and the range of alternatives developed to date to be considered and evaluated in the EIS.

In addition to the agency and public scoping meetings, a public hearing will be held. Public notice will be given of the time and place of the meetings and hearing. To ensure that the full range of issues related to this proposed action is addressed and all significant issues are identified, comments and suggestions are invited from all interested parties. Such comments or questions concerning this proposed action should be directed to TxDOT at the address provided above.

(Catalog of Federal Domestic Assistance Program Number 20.205, Highway Planning and Construction.)
Issued on: March 13, 2017.
Michael T. Leary,
Director, Planning and Program Development, Federal Highway Administration.

[FR Doc. 2017-05370 Filed 3-16-17; 8:45 am]

BILLING CODE 4910-22-P